DEPARTMENT OF TRANSPORTATION

Federal Aviation Administration

Notice of Intent To Rule on Disposal of Aeronautical Property at Bowman Field Airport Louisville, KY (LOU)

AGENCY: Federal Aviation Administration (FAA), DOT.

ACTION: Notice.

SUMMARY: The Federal Aviation Administration is requesting public comment on a request by the Louisville Regional Airport Authority (LRAA), to release 0.11 acres of land at Bowman Field Airport from federal obligations. This release will be retroactive for a project that was necessary for the construction of Interstate Highway 64.The request consists of the following:

A 0.11 acre of parcel of airport property was condemned by the Commonwealth of Kentucky in 1959. The court awarded this property to the State of Kentucky via quitclaim deed. This property is bounded by Beargrass Creek to the north, Cannons Lane to the east and Old Cannons Lane to the West. The current use of this property is as a small segment of Interstate Highway 64.This property was part of the 291.95 acre parcel conveyed from the United States of America with obligations to the Louisville And Jefferson County Air Board (now The Louisville Regional Airport Authority) on February 2, 1948. This request will release this property from federal obligations. This action is taken under the provisions of 49 U.S.C. 47107(h)(2).

DATES: Comments must be received on or before October 11, 2016.

ADDRESSES: Comments on this notice may be mailed or delivered in triplicate to the FAA at the following address: Memphis Airports District Office, Attn: Jamal Stovall, Community Planner, 2600 Thousand Oaks Boulevard, Suite 2250, Memphis, TN 38118.

In addition, one copy of any comments submitted to the FAA must be mailed or delivered to Mr. Charles T. Miller, Executive Director, Louisville Regional Airport Authority at the following address: 700 Administration Drive, Louisville, KY 40209.

FOR FURTHER INFORMATION CONTACT: Mr. Jamal Stovall, Community Planner, Federal Aviation Administration, Memphis Airports District Office, 2600, Thousand Oaks Boulevard, Suite 2250, Memphis, TN 38118-2482. The application may be reviewed in person at this same location, by appointment.

SUPPLEMENTARY INFORMATION: The FAA proposes to rule and invites public comment on the request to release property for disposal at Bowman Field Airport, 2815 Taylorsville Rd. Louisville, KY 40205, under the provisions of 49 U.S.C. 47107(h)(2). The FAA determined that the request to release property at Bowman Field Airport (LOU) submitted by the Sponsor meets the procedural requirements of the Federal Aviation Administration and the release of the property does not and will not impact future aviation needs at the airport. The FAA may approve the request, in whole or in part, no sooner than thirty days after the publication of this notice.

The following is a brief overview of the request:

The Louisville Regional Airport Authority is releasing approximately 0.11 acres of airport property. This parcel was conveyed from the United States of America to the Louisville And Jefferson County Air Board (now The Louisville Regional Airport Authority) in 1948 with obligations. This release will be retroactive for a project that was necessary for the construction of Interstate Highway 64. This request will release this property from federal obligations.

Any person may inspect the request in person at the FAA office listed above under FOR FURTHER INFORMATION CONTACT.

In addition, any person may, upon request, inspect the request, notice and other documents germane to the request in person at the Louisville Regional Airport Authority.

Issued in Memphis, Tennessee, on August 30, 2016.
Tommy L. Dupree,
Assistant Manager, Memphis Airports District Office, Southern Region.

[FR Doc. 2016-21706 Filed 9-8-16; 8:45 am]

BILLING CODE 4910-13-P